SECURITIES AND EXCHANGE COMMISSION

Sunshine Act Meetings

Notice is hereby given, pursuant to the provisions of the Government in the Sunshine Act, Public Law 94-409, that the Securities and Exchange Commission will hold an open meeting on March 30, 2010 at 2 p.m., in the Auditorium, Room L-002, and a closed meeting on March 30, 2010 at 3 p.m.

The subject matter of the March 30, 2010 open meeting will be:

The Commission will hear oral argument in an appeal by vFinance Investments, Inc., a registered broker-dealer (the “Firm”), and Richard Campanella, the Firm's former chief compliance officer (together with the Firm, “Respondents”) from the decision of an administrative law judge. The law judge found that the Firm willfully violated Section 17(a) of the Securities Exchange Act of 1934 and Rules 17a-4(b)(4) and 17a-4(j) thereunder, by failing to preserve and promptly produce electronic communications, and that Campanella willfully aided and abetted and caused these violations. The law judge ordered Respondents to cease and desist, censured Campanella, and fined the Firm $100,000 and Campanella $30,000.

The subject matter of the March 30, 2010 closed meeting will be:

Post argument discussion.

Commissioners, Counsel to the Commissioners, the Secretary to the Commission, and recording secretaries will attend the closed meeting. Certain staff members who have an interest in the matters also may be present.

The General Counsel of the Commission, or his designee, has certified that, in his opinion, one or more of the exemptions set forth in 5 U.S.C. 552b(c)(3), (5), (7), 9(B) and (10) and 17 CFR 200.402(a)(3), (5), (7), 9(ii) and (10), permit consideration of the scheduled matter at the closed meeting.

Commissioner Aguilar, as duty officer, voted to consider the item listed for the closed meeting in a closed session.

At times, changes in Commission priorities require alterations in the scheduling of meeting items.

For further information and to ascertain what, if any, matters have been added, deleted or postponed, please contact:

The Office of the Secretary at (202) 551-5400.

Dated: March 23, 2010.
Florence E. Harmon,
Deputy Secretary.

[FR Doc. 2010-6711 Filed 3-23-10; 11:15 am]

BILLING CODE 8011-01-P